DEPARTMENT OF THE INTERIOR

Bureau of Land Management

[LLNVB010000 L19900000.DF0000 241A 15X 1109HF MO# 4500107331]

Notice of Intent To Prepare a Supplemental Environmental Impact Statement for the Mount Hope Project, Eureka County, Nevada

AGENCY: Bureau of Land Management, Interior.

ACTION: Notice of intent.

SUMMARY: In compliance with the National Environmental Policy Act of 1969, as amended (NEPA), and the Federal Land Policy and Management Act of 1976, as amended, the Bureau of Land Management (BLM) Mount Lewis Field Office, Battle Mountain, Nevada, intends to prepare a Supplemental Environmental Impact Statement (SEIS) for the Mount Hope Project, a new open pit and milling operation for the recovery of molybdenum, in Eureka County, Nevada. This notice initiates the NEPA process for the SEIS.

DATES: The BLM will provide opportunities for public comment upon publication of the Draft SEIS.

ADDRESSES: Print and electronic copies of the 2012 Final Environmental Impact Statement (EIS) for the Mount Hope Project, along with background materials, are available at the BLM Mount Lewis Field Office, 50 Bastian Road, Battle Mountain, Nevada, during regular business hours of 7:30 a.m. to 4:30 p.m., Monday through Friday, except holidays. Copies of the 2012 Final EIS are also available for download at the following Web site: http://bit.ly/2oJRBm3.

FOR FURTHER INFORMATION CONTACT: Christine Gabriel, Project Manager, telephone: 775-635-4000; address: 50 Bastian Road, Battle Mountain, NV 89820. Contact Ms. Gabriel if you wish to add your name to our mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Notice of Availability for the Mount Hope Project Final EIS was published in the Federal Register on October 12, 2012 (77 FR 62256). The BLM signed the Record of Decision on November 16, 2012. The Eureka Moly, LLC (EML) Mount Hope Project is a new open pit and milling operation for the recovery of molybdenum, located in central Nevada. The project encompasses approximately 8,355 acres of new surface disturbance, 8,092 of which are on public lands administered by the BLM, and 263 acres on private lands controlled by EML.

On December 28, 2016, the United States Court of Appeals for the Ninth Circuit partially reversed and vacated the BLM's decision with respect to certain aspects of the agency's air quality impact and cumulative air impacts analysis. The court also remanded to the BLM to clarify the status of any public water reserves (PWRs). The SEIS will provide updated information and discussion regarding certain air quality data and analysis used in the original EIS, and will also provide clarifying language regarding PWRs potentially impacted by the project.

The BLM will consult with Native American tribes, all the stakeholders included in the original EIS, and all other interested parties.

Authority: 40 CFR 1501.7

Jon D. Sherve,
Field Manager, Mount Lewis Field Office .

[FR Doc. 2017-15173 Filed 7-18-17; 8:45 am]

BILLING CODE 4310-HC-P